FEDERAL HOUSING FINANCE AGENCY

12 CFR Part 1281

RIN 2590-AA82

Federal Home Loan Bank Housing Goals Amendments

AGENCY: Federal Housing Finance Agency.

ACTION: Final rule; correction.

SUMMARY: The Federal Housing Finance Agency is making a non-substantive change to correct an erroneous amendatory instruction in the final rule that published on June 25, 2020, amending the existing Federal Home Loan Bank Housing Goals regulation.

DATES: This correction is effective August 24, 2020.

FOR FURTHER INFORMATION CONTACT: Ted Wartell, Manager, Housing & Community Investment, (202) 649-3157, Ted.Wartell@fhfa.gov; Ethan Handelman, Senior Policy Analyst, Housing and Community Investment, (202) 649-3264, Ethan.Handelman@fhfa.gov; or Marshall Adam Pecsek, Assistant General Counsel, Office of General Counsel, (202) 649-3380, Marshall.Pecsek@fhfa.gov. These are not toll-free numbers. The telephone number for the Telecommunications Device for the Deaf is (800) 877-8339. The mailing address for each contact is: Federal Housing Finance Agency, 400 7th Street SW, Washington, DC 20219.

SUPPLEMENTARY INFORMATION: In FR Doc. 2020-12345 appearing on page 38031 in the Federal Register of Thursday, June 25, 2020, the following correction is made:

On page 38052, in the first column, amendatory instruction 6 is corrected to read as follows:

“6. Amend § 1281.13 by:”

Mark A. Calabria,
Director, Federal Housing Finance Agency.

[FR Doc. 2020-15076 Filed 7-21-20; 8:45 am]

BILLING CODE 8070-01-P